INTERNATIONAL TRADE COMMISSION

[Investigation Nos. 701-TA-417 and 731-TA-953, 957-959, and 961 (Third Review)]

Carbon and Certain Alloy Steel Wire Rod From Brazil, Indonesia, Mexico, Moldova, and Trinidad and Tobago; Notice of Commission Determinations To Conduct Full Five-Year Reviews

AGENCY: United States International Trade Commission.

ACTION: Notice.

SUMMARY: The Commission hereby gives notice that it will proceed with full reviews pursuant to the Tariff Act of 1930 to determine whether revocation of the countervailing duty order on carbon and certain alloy steel wire rod (“wire rod”) from Brazil and the antidumping duty orders on wire rod from Brazil, Indonesia, Mexico, Moldova, and Trinidad and Tobago would be likely to lead to continuation or recurrence of material injury within a reasonably foreseeable time. A schedule for the reviews will be established and announced at a later date.

DATES: September 6, 2019.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov. For further information concerning the conduct of these reviews and rules of general application, consult the Commission's Rules of Practice and Procedure, part 201, subparts A through E (19 CFR part 201), and part 207, subparts A, D, E, and F (19 CFR part 207).

SUPPLEMENTARY INFORMATION: On September 6, 2019, the Commission determined that it should proceed to full reviews in the subject five-year reviews pursuant to section 751(c) of the Tariff Act of 1930 (19 U.S.C. 1675(c)).¹ The Commission found that the domestic interested party group response to its notice of institution (84 FR 25564, June 3, 2019) was adequate. The Commission also found that the respondent interested party group response concerning the antidumping duty order on wire rod from Mexico was adequate and, therefore, determined to proceed with a full review of that order. The Commission found that the respondent interested party group responses concerning the countervailing duty and antidumping duty orders on wire rod from Brazil and the antidumping duty orders on wire rod from Indonesia, Moldova, and Trinidad and Tobago were inadequate but determined to conduct full reviews of these orders in order to promote administrative efficiency in light of the determination to conduct a full review of the antidumping duty order on wire rod from Mexico. A record of the Commissioners' votes, the Commission's statement on adequacy, and any individual Commissioner's statements will be available from the Office of the Secretary and at the Commission's website.

¹ Commissioner Jason E. Kearns did not participate in these determinations.

Authority: These reviews are being conducted under authority of title VII of the Tariff Act of 1930; this notice is published pursuant to section 207.62 of the Commission's rules.

By order of the Commission.
Issued: September 20, 2019.
Lisa Barton,
Secretary to the Commission.

[FR Doc. 2019-20799 Filed 9-24-19; 8:45 am]

BILLING CODE 7020-02-P